DEPARTMENT OF THE TREASURY

Submission for OMB Review; Comment Request

January 24, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 10, 2003 to be assured of consideration.

Internal Revenue Service (IRS)

OMB Number: 1545-1812.

Regulation Project Number: REG-143321-02 (NPRM and Temporary).

Type of Review: Extension.

Title: Information Reporting Relating to Taxable Stock Transactions.

Description: The regulation prescribes procedures for reporting the acquisition of control of a corporation, substantial change in capital structure of a corporation, substantial change in capital structure of a corporation.

Respondents: Business or other for-profit.

Estimated Number of Respondents: 1.

Estimated Burden Hours Per Respondent: 1 hour.

Frequency of Response: On occasion.

Estimated Total Reporting Burden: 1 hour.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 03-2824 Filed 2-5-03; 8:45 am]

BILLING CODE 4830-01-P